DEPARTMENT OF DEFENSE

Department of the Army, U.S. Army Corps of Engineers

Notice of Availability of a Draft Detailed Project Report With Integrated Environmental Assessment and Draft Finding of No Significant Impact for the Pier 70 Central Basin Continuing Authorities Program Section 107 Navigation Improvement Project at the Port of San Francisco, San Francisco, CA

AGENCY: Department of the Army, U.S. Army Corps of Engineers, DoD.

ACTION: Notice of availability; request for comments.

SUMMARY: The United States Army Corps of Engineers (USACE) San Francisco District announces the availability of a Draft Detailed Project Report with Integrated Environmental Assessment (DPR/EA) and draft Finding of No Significant Impact (FONSI) for review and comment for the proposed Pier 70 Central Basin Continuing Authorities Program (CAP) Section 107 Navigation Improvement Project in San Francisco, California. Pursuant to 33 CFR 230.11 (b) U.S. Army Corps of Engineers—Procedures for Implementing [the National Environmental Policy Act] NEPA, notice of the availability of this DPR/EA and draft FONSI for review and comment is being provided to agencies, organizations, and the interested public.

DATES: Comments on the Draft DPR/EA and draft FONSI may be submitted starting February 13, 2017 through 5:00 p.m. (PDT), February 28, 2017. If comments are provided by mail, they must be received at the address below no later than February 28, 2017.

ADDRESSES: The Draft DPR/EA can be viewed online starting February 13, 2017 at: http://www.spn.usace.army. mil/Portals/68/docs/Environmental/2017_0213_Central_Basin_Sec107_DraftDPR-EA.pdf.

Comments may be submitted on the Draft DPR/EA using any of the following methods:

• Mail: U.S. Army Corps of Engineers, San Francisco District, ATTN: Roxanne Grillo, 1455 Market Street, San Francisco, CA 94103-1398.

• Email: CESPN-ET-PA@usace.army.mil.

Comment letters should include the commenter's physical mailing address and the project title in the subject line.

FOR FURTHER INFORMATION CONTACT: Roxanne Grillo, U.S. Army Corps of Engineers, San Francisco District, 1455 Market Street, San Francisco, CA 94103-1398. Telephone: (415) 503-6859. Email: CESPN-ET-PA@usace.army.mil.

SUPPLEMENTARY INFORMATION:

1. Project Site and Background Information. The project area consists of a turning and maneuvering basin within the waters of the San Francisco Bay called the Central Basin Approach Area (Central Basin) at the Port of San Francisco's Pier 70 Shipyard located along the eastern shore of the City of San Francisco, approximately 1.5 miles south of the San Francisco-Oakland Bay Bridge. The Pier 70 Shipyard features two dry docks, full pier-side facilities, and an available labor force in excess of 1,300, as well as a number of machine shops and engineering firms. The Port of San Francisco owns the real property and primary equipment for ship repair, such as the dry docks and cranes, offering full-service ship repair for commercial and government vessels. The facility can accommodate post-Panamax class ships, including cruise ships, tankers, container ships, and more.

The USACE proposes to dredge the Central Basin to an increased depth and place the dredged material at a permitted site. The purpose of the Proposed Action is to reduce the negative impacts of shoaling in the Central Basin to allow vessels to safely and efficiently access the Pier 70 Shipyard without the use of high tide. The Proposed Action is necessary to reduce transportation costs and user delays for use of the repair and service facilities at the Pier 70 Shipyard, increase access to the specialized repair and service facilities at the Pier 70 Shipyard, and improve safety and decrease risk to vessels and operators in approaching the Central Basin and Pier 70 Shipyard.

Pursuant to NEPA, USACE has prepared a Draft DPR/EA analyzing the potential environmental impacts of planning, designing, constructing, and maintaining a commercial navigation project at the Central Basin. The primary action areas for this analysis include the proposed Central Basin approach area dredge footprint, the dredged material placement site (the San Francisco Deep Ocean Disposal Site as well as the alternative placement sites evaluated), and waterways used for vessel transit between the dredge and placement sites. The Port of San Francisco is the Non-Federal Sponsor (NFS).

2. Alternatives. The study considers both non-structural and structural measures. Non-structural measures include: Lightering, light loading, the use of favorable tides, and daylight transit only. Structural measures proposed include dredging to various depths in combination with dredged material placement at a range of sites. Three sets of alternative deepening plans were evaluated based on three different depths (30 feet mean lower low water [MLLW], 32 feet MLLW, and 35 feet MLLW) and three alternative sediment placement locations (beneficial use, deep ocean disposal at the San Francisco Deep Ocean Disposal Site, and an in-bay site), which resulted in a total of 16 alternatives considered including the no-action plan. The final array of four alternatives (including the No Action Alternative) from the alternative formulation process were carried forward for analysis in the EA.

The recommended plan (Proposed Action, Agency-Preferred Alternative) is the National Economic Development Plan (Alternative 6) to dredge the Central Basin to 32 feet MLLW plus two feet of overdepth and place all of the material at the San Francisco Deep Ocean Disposal Site. Approximately 237,700 cubic yards of material (including the two feet of overdepth) would be dredged.

Brenda S. Bowen,
Army Federal Register Liaison Officer.

[FR Doc. 2017-02780 Filed 2-9-17; 8:45 am]

BILLING CODE 3720-58-P